Memorandum of February 9, 2005

Delegation of Reporting Authority

Memorandum for the Chairman of the Railroad Retirement Board

By the authority vested in me as President by the Constitution and the laws of the United States, including section 301 of title 3, United States Code, I hereby delegate to you the functions and authority conferred upon the President by section 7(b)(6) of the Railroad Retirement Act and section 12(l) of the Railroad Unemployment Insurance Act to provide the specified report to the Congress.

You are authorized and directed to publish this memorandum in the Federal Register.

B

THE WHITE HOUSE,

Washington, February 9, 2005.

[FR Doc. 05-2938

Filed 2-11-05; 8:51 am]

Billing code 7905-01-P